DEPARTMENT OF ENERGY

Federal Energy Regulatory Commission

[Project No. 2179-043]

Merced Irrigation District; Notice of Environmental Site Review

Take notice that the following hydroelectric applications have been filed with Commission and are available for public inspection:

a. Type of Application: New License.

b. Project No.: 2179-043.

c. Date filed: February 27, 2012.

d. Applicant: Merced Irrigation District (Merced ID).

e. Name of Project: Merced River Hydroelectric Project.

f. Location: The existing project is located on the Merced River in Merced and Mariposa counties, California. The project would occupy 3,152.9 acres of federal land managed by the Bureau of Land Management.

g. Filed Pursuant to: Federal Power Act, 16 U.S.C. 791(a)-825(r).

h. Applicant Contact: Merced Irrigation District, P.O. Box 2288, Merced, CA 95344; Telephone (209) 722-5761.

i. FERC Contact: Matt Buhyoff, (202) 502-6824 or matt.buhyoff@ferc.gov.

Environmental Site Review

The Applicant and FERC staff will conduct a project Environmental Site Review of this project and the adjacent Merced Falls project (FERC No. 2467) beginning at 7:00 a.m. on May 1, 2014. All interested individuals, organizations, and agencies are invited to attend. All participants should meet at the Merced ID offices located at 744 West 20th Street in Merced, California. All participants are responsible for their own transportation to the site. Anyone with questions about the Environmental Site Review should contact Mr. James Lynch at 916-679-8740.

Dated: April 11, 2014.
Kimberly D. Bose,
Secretary.

[FR Doc. 2014-08748 Filed 4-16-14; 8:45 am]

BILLING CODE 6717-01-P